SMALL BUSINESS ADMINISTRATION

[Declaration of Disaster #3354]

Commonwealth of Virginia; (Amendment #1)

In accordance with notices received from the Federal Emergency Management Agency, dated August 1, 2001, the above numbered declaration is hereby amended to include Buchanan, Dickenson, Russell, Scott, Smyth, and Wise Counties as disaster areas and to reopen the incident period for this disaster as beginning July 8, 2001 and continuing.

In addition, applications for economic injury loans from small businesses located in the following contiguous counties may be filed until the specified date at the previously designated location: Grayson, Lee, Washington, and Wythe Counties in Virginia; Harlan, Letcher, and Pike Counties in Kentucky; Hancock, Hawkins, and Sullivan Counties in Tennessee; and Mingo County, West Virginia. All other contiguous counties have been previously declared.

The numbers assigned for economic injury are 9M2600 for Kentucky and 9M2700 for Tennessee. All other information remains the same, i.e., the deadline for filing applications for physical damage is September 10, 2001, and for loans for economic injury the deadline is April 12, 2002.

(Catalog of Federal Domestic Assistance Program Nos. 59002 and 59008.)

Dated: August 2, 2001.
Herbert L. Mitchell,
Associate Administrator for Disaster Assistance.

[FR Doc. 01-20321 Filed 8-13-01; 8:45 am]

BILLING CODE 8025-01-P